DEPARTMENT OF COMMERCE

National Oceanic and Atmospheric Administration

[I.D. 040901B]

Fisheries off West Coast States and in the Western Pacific; Western Pacific Pelagic Fisheries; Notice of Court Order Requiring Actions to Reduce the Incidental Catch of Sea Turtles in the Hawaii Pelagic Longline Fishery

AGENCY: National Marine Fisheries Service (NMFS), National Oceanic and Atmospheric Administration (NOAA), Commerce.

ACTION: Notice of Requirements of the Order Modifying Injunction (Order) of the United States District Court for the District of Hawaii issued on March 30, 2001.

SUMMARY: This document announces the terms of the March 30, 2001, Order of the United States District Court for the District of Hawaii. This Order modifies the Court’s previous Order of August 4, 2000. The Order restricts the Hawaii-based longline fishery (Hawaii longline fishery) based on the preferred alternative of the Final Environmental Impact Statement (FEIS) governing the Hawaii longline fishery conducted under the Fishery Management Plan for Pelagic Fisheries of the Western Pacific Region (FMP). The new Hawaii longline fishery management measures are intended to protect and conserve sea turtles.

FOR FURTHER INFORMATION CONTACT: Alvin Katekaru, Fishery Management Specialist, Pacific Islands Area Office (PIAO), 808-973-2937.

SUPPLEMENTARY INFORMATION: Background information on actions taken to implement earlier orders of the United States District Court for the District of Hawaii in Center for Marine Conservation v. NMFS was published in the Federal Register on December 27, 1999 (64 FR 72290), on March 28, 2000 (65 FR 16346), on June 19, 2000 (65 FR 37917), on August 25, 2000 (65 FR 51992), on November 3, 2000 (65 FR 66186), on February 22, 2001 (66 FR 11120) and on March 19, 2001 (66 FR 15358) and is not repeated here. The other regulations in 50 CFR parts 600 and 660 applicable to this fleet continue to apply. In the near future, NMFS anticipates publishing emergency interim regulations implementing the requirements of the Hawaii District Court’s Order of March 30, 2001. This document is published to provide the public with notification of the requirements of the recent Court Order.

On March 30, 2001, Judge David A. Ezra, U.S. District Court for the District of Hawaii (Court), issued an Order in Center for Marine Conservation v. NMFS, in response to NMFS filing an FEIS for the Pelagic Fisheries of the Western Pacific Region by a deadline set in the Court’s August 4, 2000, Order. The Court ordered that the following restrictions be imposed on Hawaii longline fishermen:

1. No vessel registered for use with a Hawaii longline limited access permit (“Hawaii longline vessel”) may use longline fishing gear to target swordfish north of the equator. Longline gear must always be deployed such that the deepest point of the main longline between any two floats, i.e., the deepest point in each sag of the main line, is at a depth greater than 100 m (328.1 ft or 54.6 fm) below the sea surface.

2. No Hawaii longline vessel may fish with longline gear from April 1, 2001, through May 31, 2001, in the area bounded on the south by the equator, on the west by 180° W. long., on the east by 145° W. long., and on the north by 15° N. lat.

3. A Hawaii longline vessel that is de-registered from a Hawaii longline limited access permit after March 29, 2001, may not be registered again with a Hawaii longline limited access permit, except during the month of October.

4. If a sea turtle is discovered hooked or entangled on a longline during gear retrieval, retrieval shall cease until the turtle has been removed from the gear or brought onto the vessel’s deck.

5. Hooks must be removed from the sea turtles as quickly and carefully as possible. If a hook cannot be removed, the line must be cut as close to the hook as possible.

6. Wire or bolt cutters capable of cutting through a longline hook must be on board each vessel to facilitate cutting of hooks imbedded in sea turtles.

7. The vessel operator shall bring comatose sea turtles on board the vessel and perform resuscitation as prescribed in 50 CFR 223.206(d)(1).

The Order shall remain in effect until further order of the Court.

Authority: 16 U.S.C. 1801 et seq.

Dated: April 13, 2001.
Bruce C. Morehead,
Acting Director, Office of Sustainable Fisheries, National Marine Fisheries Service.

[FR Doc. 01-9646 Filed 4-13-01; 3:57 pm]

BILLING CODE 3510-22-S